DEPARTMENT OF COMMERCE

Census Bureau

Agency Information Collection Activities; Submission to the Office of Management and Budget (OMB) for Review and Approval; Comment Request; Generic Clearance for Emergency Economic Information Collections

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 8, 2021 during a 60-day comment period. This notice allows for an additional 30 days for public comments.

Agency: U.S. Census Bureau, Department of Commerce.

Title: Generic Clearance for Emergency Economic Information Collections.

OMB Control Number: 0607-XXXX.

Form Number(s): None.

Type of Request: Regular submission, New Information Collection.

Number of Respondents: We estimate the potential maximum number of respondents to all EEIC's in a given year is 300,000.

Average Hours per Response: 10 minutes.

Burden Hours: 50,000.

Needs and Uses: The U.S. Census Bureau requests Office of Management and Budget (OMB) approval for a 3-year period, for a new generic clearance that provides the quick turn-around necessary for conducting emergency economic information collections (EEIC) in response to unanticipated international, national, or regional declared emergencies or events of national interest arising as a direct result of declared emergencies having a significant economic impact on U.S. businesses and/or state or local governments. The purpose of the collections will be to gauge and monitor the economic impact of such events on U.S. businesses or organizations and state or local governments.

The Coronavirus pandemic, in addition to having devastating effects on the health and wellbeing of the global population, has had a profound effect on the world economy. The Census Bureau, in carrying out its mission to serve as the nation's leading provider of quality data about its people and economy, has sought to measure the effect on U.S. businesses through supplemental questions added to several of its recurring business surveys and a new special-purpose survey meant to measure the effect of the pandemic on small, employer owned businesses—the Small Business Pulse Survey (OMB number 0607-1014). Due to the need to collect data on a timely basis, the Census Bureau submitted these requests to the Office of Management and Budget under the emergency processing provisions of the Paperwork Reduction Act (PRA). Although that process allowed us to implement the collections in a timely manner, restrictions on the use of the PRA emergency process to revise or extend these collections hampered our ability to remain agile and to collect data on an ongoing basis as the Pandemic continued throughout 2020 and beyond. We believe that a generic clearance will benefit the Census Bureau, the reporting public, and the many stakeholders who will have great need for information during times of future unanticipated events.

Emergencies, once declared by the authorized state or federal official or entity, that could trigger the need for an EEIC may have global, national, or regional impact on U.S. businesses and governments, and include the following examples:

—Pandemic or other health emergency

—Natural or manmade disaster

—Acts of war or terrorism

—Civil unrest or insurrection

Other events of national interest arising as a direct result of declared emergencies may also have a significant impact on U.S. businesses or governments. An example of a recent such event is the computer chip shortage which has resulted from labor and resource shortages directly stemming from the effects of the Coronavirus pandemic. The computer ship shortage has had a significant effect on industries ranging from computer manufacturing to automobile production. Another example is the need to monitor and track production and exports of personal protective equipment (PPE) and vaccines that arose during the Coronavirus pandemic. General categories of national interest events arising as a direct result of declared emergencies which could trigger the need for an EEIC are:

—Economic crises

—Financial crises

—International geo-political instabilities

—Resource shortages

—Cyberterrorism

—New legislation passed as a direct result of a declared emergency

A declared emergency or national interest event arising as a direct result of a declared emergency would need to have a perceived impact on U.S. businesses and/or state or local governments in order for the Census Bureau to collect EEIC information in response.

EEIC questions may be included as supplemental questions on existing Census Bureau surveys or conducted as new special-purpose surveys. The data will be collected by paper or electronic instruments, depending on the survey or program.

The questions will be chosen from a pretested Question Bank. For some subjects, the Question Bank includes specific questionnaire content. In other cases, the Question Bank includes topics which will then be addressed with questions designed to meet data needs that arise during a future unknown event. Some questions have been cognitively tested and should be considered final; some may require testing for final wording. Questions that may require testing and refinement are annotated in the Question Bank. As the Question Bank matures with new or revised content, the Census Bureau will resubmit the bank for review.

The Census Bureau will first obtain approval for the generic clearance under the regular processing provisions of the PRA (the subject of this clearance request). The clearance request defines the scope and overall burden of information collections to be conducted under the generic clearance. As future emergencies arise, the Census Bureau will use the process defined below to obtain approval for individual EEIC's.

Clearance process for an EEIC:

1. Based on an emergency or national interest event arising as a direct result of a declared emergency, the Census Bureau decides to conduct an EEIC.

2. The OMB-OIRA Desk officer is notified of the EEIC immediately via email, followed by receipt of the “Request for Emergency Economic Information Collection” describing the emergency or resulting national interest event and the planned information collection. The supplemental questions or collection instrument will be attached to the Request for EEIC.

3. The Request for EEIC will include a date by which OMB approval is required. The standard review time for requests under this generic clearance will be 10 days. However, a review time of as few as 3 days may be requested. Special justification for any review time of less than 10 days will be included in the Request for EEIC.

4. The OMB-OIRA desk officer responds with approval or comments on the proposed EEIC within the timeframe specified in the Request for EEIC. OMB may provide approval and comments orally (followed by email for written documentation) or by email directly to the Census Bureau. This may occur before the request is submitted and received by OMB through the official ICR tracking system. If no response is received within the specified timeframe, the information collection is considered approved.

5. The Census Bureau maintains a library of data collection instruments that includes all final data collection instruments conducted under this generic clearance. This library and the burden expended is submitted to OMB quarterly as a non-substantive change to the generic clearance.

6. EEICs will last a maximum of 9 months (this limit was stated as 6 months in the February 8, 2021 notice and has since been increased to 9 months).

7. A new Request for EEIC may be submitted under the generic clearance if the Census Bureau determines the need to revise an existing EEIC or to extend the collection past the initial 9 months.

As data collections will be tailored to the emergency, users of the data may vary, but may include: Federal, state, or local officials charged with decision-making during the emergency; business leaders and policymakers wishing to develop plans to ameliorate the effects of the emergency; academics and members of the press wishing to study and disseminate information about the emergency; and the public. The data collected will help us understand how and why data we collect in our ongoing surveys may be affected by the emergency, as well as allow us to disseminate data as part of existing releases, new releases, or experimental releases.

Affected Public: Business or other for-profit organizations; State, Local, or Tribal government; Federal government.

Frequency: On occasion.

Respondent's Obligation: Determinations about whether EEIC questions will be mandatory or voluntary will be made in consultation with legal counsel. This information will be included the Request for EEIC submitted to OMB in advance of the collection.

Legal Authority: Title 13 U.S.C., Sections 131, 161, and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2021-20422 Filed 9-20-21; 8:45 am]

BILLING CODE 3510-07-P